DEPARTMENT OF ENERGY

Federal Energy Regulatory Commission

18 CFR Parts 125 and 225

[Docket No. RM99-8-000; Order No. 617]

Preservation of Records of Public Utilities and Licensees, Natural Gas Companies, and Oil Pipeline Companies

Issued August 15, 2000.

AGENCY: Federal Energy Regulatory Commission

ACTION: Final rule; correction.

SUMMARY: The Federal Energy Regulatory Commission published in the Federal Register of August 7, 2000, a final rule amending its records retention regulations for public utilities and licensees, natural gas companies, and oil pipeline companies (“regulated companies”). The Commission inadvertently omitted a cross reference in the schedule of records and periods of retention in Parts 125 and 225. The Commission also did not revise a record retention period in § 225.3 that it had agreed to do in the final rule's preamble language. This document corrects these omissions.

EFFECTIVE DATE: These corrections are effective on August 21, 2000.

FOR FURTHER INFORMATION CONTACT: Mary C. Lauermann, Office of Finance, Accounting and Operations, 888 First Street, N.E., Washington, DC 20426, (202) 208-0087.

SUPPLEMENTARY INFORMATION: The Federal Energy Regulatory Commission published a final rule in the Federal Register of August 7, 2000 (65 FR 48148). The following corrections are made to the final rule.

§ 125.3 [Corrected]

1. On pages 48157-48159 in § 125.3, in the second column of the table, add the phrase “See § 125.2(g).” after the years shown for the following item numbers: Item No. 8(b)(1); Item No. 10; Item No. 11(a), (b) and (d); Item No. 12(b); Item No. 13.1(c)(1) and (c)(2); Item No.16(a) and (b); Item No. 25(a)(1) and (b); and Item No. 27.

§ 225.3 [Corrected]

2. On pages 48162-48165 in § 225.3, in the second column of the table, add the phrase “See § 225.2(g).” after the years shown for the following item numbers: Item No. 8(b)(1); Item No. 10; Item No. 11(a), (b) and (d); Item No. 12(b); Item No. 16(a) and (b); Item No. 25(a)(1) and (b); and Item No. 27.

3. On page 48165, also in § 225.3, in the second column for Item No. 31, remove the words “7 months.” and add in their place the words “1 year.”

David P. Boergers,
Secretary.

[FR Doc. 00-21147 Filed 8-18-00; 8:45 am]

BILLING CODE 6717-01-U